DEPARTMENT OF THE INTERIOR

National Park Service

[NPS-WASO-NAGPRA-NPS0028458; PPWOCRADN0-PCU00RP14.R50000]

Notice of Intent To Repatriate Cultural Items: Arizona State Museum, University of Arizona, Tucson, AZ; Correction

AGENCY: National Park Service, Interior.

ACTION: Notice; correction.

SUMMARY: The Arizona State Museum, University of Arizona has corrected an inventory of unassociated funerary objects, published in a Notice of Intent to Repatriate Cultural Items in the Federal Register on September 10, 2014. This notice corrects the number of unassociated funerary objects. Lineal descendants or representatives of any Indian Tribe or Native Hawaiian organization not identified in this notice that wish to claim these cultural items should submit a written request to the Arizona State Museum, University of Arizona. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Arizona State Museum, University of Arizona at the address in this notice by September 4, 2019.

ADDRESSES: Claire S. Barker, Repatriation Coordinator, P.O. Box 210026, Arizona State Museum, University of Arizona, Tucson, AZ 85721, telephone (520) 626-0320, email csbarker@email.arizona.edu.

SUPPLEMENTARY INFORMATION: Notice is here given in accordance with the Native American Graves Protection and Repatriation Act (NAGPRA), 25 U.S.C. 3005, of the intent to repatriate cultural items under the control of the Arizona State Museum, University of Arizona, Tucson, AZ, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

This notice corrects the number of unassociated funerary objects published in a Notice of Intent to Repatriate Cultural Items in the Federal Register (79 FR 53775-53777, September 10, 2014). The number of unassociated funerary objects increased due to a search through uncatalogued object collections. Transfer of control of the items in this correction notice has not occurred.

Correction

In the Federal Register (79 FR 53776, September 10, 2014), column 1, paragraph 3, sentence 1 is corrected by substituting the following sentence:

In the years 1981 to 1987, 66 cultural items were removed from the Redtail Village site, AZ AA:12:149(ASM), in Tucson, Pima County, AZ.

In the Federal Register (79 FR 53776, September 10, 2014), column 1, paragraph 3, sentence 6 is corrected by substituting the following sentence:

The 66 unassociated funerary objects are 18 animal bones, 42 ceramic sherds, five chipped stones, and one ground stone.

In the Federal Register (79 FR 53777, September 10, 2014), column 1, paragraph 1, sentence 1 is corrected by substituting the following sentence:

Pursuant to 25 U.S.C. 3001(3)(B), the 2,081 cultural items described above are reasonably believed to have been placed with or near individual human remains at the time of death or later as part of the death rite or ceremony and are believed, by a preponderance of the evidence, to have been removed from a specific burial site of a Native American individual.

Additional Requestors and Disposition

Lineal descendants or representatives of any Indian Tribe or Native Hawaiian organization not identified in this notice that wish to claim these cultural items should submit a written request with information in support of the claim to Claire S. Barker, Repatriation Coordinator, P.O. Box 210026, Arizona State Museum, University of Arizona, Tucson, AZ 85721, telephone (520) 626-0320, email csbarker@email.arizona.edu, by September 4, 2019. After that date, if no additional claimants have come forward, transfer of control of the unassociated funerary objects to the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and the Zuni Tribe of the Zuni Reservation, New Mexico; hereafter referred to as “The Tribes,” may proceed.

The Arizona State Museum, University of Arizona is responsible for notifying the Tribes that this notice has been published.

Dated: July 16, 2019.
Melanie O'Brien,
Manager, National NAGPRA Program.

[FR Doc. 2019-16689 Filed 8-2-19; 8:45 am]

BILLING CODE 4312-52-P